DEPARTMENT OF ENERGY

Federal Energy Regulatory Commission

[Project No. 2000-036-New York]

Power Authority of the State of New York; Notice

November 20, 2001.

The following Commission staff were assigned to help facilitate resolution of environmental and related issues associated with development of the St. Lawrence-FDR Power Project license application that was filed on October 31, 2001. These staff will continue to be available to assist the parties, if requested, to resolve issues during the pendency of the license application. However, these “separated staff” will take no part in Commission review of the application, or deliberations concerning the merits of the application.

Office of General Counsel

Merrill Hathaway

Office of Energy Projects

Jennifer Hill

Mark Pawlowski

Patti Leppert

Steve Naugle

Different Commission “advisory staff” will be assigned to process the license application, including providing advice to the Commission with respect to it. Separated staff and advisory staff are prohibited from communicating with one another concerning this license application. However, in the interest of efficiency and consistency, Environmental Resource Management, Inc. (ERM), per agreement with and under the direction of the New York Department of Environmental Conservation (Department) and the Commission, will continue to assist the Department and the Commission in producing the final project environmental impact statement.

Linwood A. Watson, Jr.,
Acting Secretary.

[FR Doc. 01-29416 Filed 11-26-01; 8:45 am]

BILLING CODE 6717-01-P